FEDERAL MARITIME COMMISSION

Meeting; Sunshine Act

AGENCY HOLDING THE MEETING: Federal Maritime Commission.

TIME AND DATE: June 24, 2009—10 a.m.

PLACE: 800 North Capitol Street, NW., First Floor Hearing Room, Washington, DC.

STATUS: The meeting will be in Open Session.

Matters To Be Considered

Open Session

1. Docket No. 02-15 Passenger Vessel Financial Responsibility.

2. FMC Agreement No. 201201: Port of Seattle/Terminal Operator Agreement.

3. Marine Terminal Agreements Exemption at 46 CFR 535.308.

4. FY 2009 Budget Status Update.

Contact Person for More Information: Karen V. Gregory, Secretary, (202) 523-5725.

Karen V. Gregory,
Secretary.

[FR Doc. E9-14575 Filed 6-17-09; 4:15 pm]

BILLING CODE 6730-01-P